DEPARTMENT OF ENERGY

Federal Energy Regulatory Commission

[Docket No. RP02-486-001]

Enbridge Pipelines (Midla) Inc.; Notice of Compliance Filing

October 8, 2002.

Take notice that on October 4, 2002, Enbridge Pipelines (Midla) Inc. (Midla) tendered for filing as part of its FERC Gas Tariff, Fourth Revised Volume No. 1, Substitute First Revised Sheet No. 191, and Substitute Original Sheet No. 192, with an effective date of October 1, 2002.

Midla states that the filing is being made in compliance with the Commission's September 25, 2002, Order in the captioned proceeding that accepted, subject to certain conditions, Midla's Order No. 587-O compliance filing.

Midla states that complete copies of its filing are being mailed to all of the parties on the Commission's Official Service list for these proceedings, all of its jurisdictional customers, and applicable State Commissions.

Any person desiring to protest said filing should file a protest with the Federal Energy Regulatory Commission, 888 First Street, NE., Washington, DC 20426, in accordance with section 385.211 of the Commission's rules and regulations. All such protests must be filed in accordance with Section 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202) 502-8222 or for TTY, (202) 502-8659. The Commission strongly encourages electronic filings. See, 18 CFR 385.2001(a)(1)(iii) and the instructions on the Commission's web site under the “e-Filing” link.

Linwood A. Watson, Jr.,
Deputy Secretary.

[FR Doc. 02-26102 Filed 10-11-02; 8:45 am]

BILLING CODE 6717-01-P